DEPARTMENT OF COMMERCE

National Oceanic and Atmospheric Administration

[I.D. 022207D]

Draft Programmatic Environmental Impact Statement

AGENCY: National Marine Fisheries Service (NMFS), National Oceanic and Atmospheric Administration (NOAA), Commerce.

ACTION: Notice of public hearings.

SUMMARY: NMFS will hold a series of public hearings regarding the Draft Programmatic Environmental Impact Statement (DPEIS) for Research on Steller Sea Lions and Northern Fur Seals.

DATES: See SUPPLEMENTARY INFORMATION for specific dates, times, and locations of public hearings for this issue.

FOR FURTHER INFORMATION CONTACT: Mike Payne or Tammy Adams, (301)713-2289.

SUPPLEMENTARY INFORMATION: On February 16, 2007, notice was published in the Federal Register (72 FR 7652) of the availability of the DPEIS for review and comments. Written comments on the DPEIS must be received by April 2, 2007. NMFS will hold three public hearings to inform interested parties of the alternatives analyzed and accept comments. Please be advised that a valid government-issued photo-identification will be required for entry through building security at the Silver Spring, MD and Seattle, WA hearings.

Public Hearings Agenda

Public hearings will be held at the following dates, times, and locations:

1. March 13, 2007, 1 to 4 pm; Silver Spring Metro Complex, Bldg. 4, Science Center, 1301 East-West Highway, Silver Spring, MD;

2. March 15, 2007, 4 to 7 pm; Alaska Fisheries Science Center, Bldg. 9, 7600 Sand Point Way, Seattle, WA; and

3. March 18, 2007, 5 to 8 pm; Hilton Hotel, 501 West 3rd Avenue, Anchorage, AK.

Written comments will be accepted at these hearings as well as during the comment period.

Special Accommodations

These meetings are accessible to people with disabilities. Requests for sign language interpretation or other auxiliary aids should be directed to Tyrone Stuckey or Dee Jenkins, 301-713-2289 (voice) or 301-427-2521 (fax), at least five business days before the scheduled meeting date.

Dated: February 22, 2007.
P. Michael Payne,
Chief, Permits, Conservation and Education Division, Office of Protected Resources, National Marine Fisheries Service.

[FR Doc. E7-3517 Filed 2-27-07; 8:45 am]

BILLING CODE 3510-22-S